ENVIRONMENTAL PROTECTION AGENCY

[EPA-HQ-OPPT-2008-0598; FRL-8377-2]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from June 23, 2008 through July 18, 2008, consists of the PMNs and TMEs, both pending or expired, and the notices of commencement to manufacture a new chemical that the Agency has received under TSCA section 5 during this time period.

DATES: Comments identified by the specific PMN number or TME number, must be received on or before September 8, 2008.

ADDRESSES: Submit your comments, identified by docket identification (ID) number EPA-HQ-OPPT-2008-0598, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2008-0598. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2008-0598. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from June 23, 2008 through July 18, 2008, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 71 Premanufacture Notices Received From: 06/23/08 to 07/18/08
Case No. | Received Date | Projected Notice End Date | Manufacturer/Importer | Use | Chemical
P-08-0486 | 06/20/08 | 09/17/08 | CBI | (G) Lamination adhesive | (G) Polymer with .alpha.-hydro-.omega.-hydroxypoly[oxy(methyl-1,2-ethanediyl)], 3-hydroxy-2-(hydroxymethyl)-2-methylpropanoic acid and alkyldiisocyanate, ammonium salt
P-08-0487 | 06/23/08 | 09/20/08 | CBI | (G) Dispersion additive for printing ink | (G) Triazine derivative
P-08-0488 | 06/23/08 | 09/20/08 | CBI | (G) Dispersion additive for printing ink | (G) Triazine derivative
P-08-0489 | 06/23/08 | 09/20/08 | CBI | (G) Open, nondispersive use; polymer precursor | (G) Azo substituted benzoic acid
P-08-0490 | 06/24/08 | 09/21/08 | Wacker Polymers LP | (S) Binder for building materials, sealants, paints, adhesives, plasters; | (S) Tert-decanoic acid, ethenyl ester, polymer with ethene, ethenyl acetate and methyl 2-methyl-2-propenoate
P-08-0491 | 06/25/08 | 09/22/08 | Huntsman International, LLC | (S) Exhaust dyeing of cotton | (G) Reaction product of substituted naphthalenesulfonic acid triazin amino compound and substituted naphthalenesulfonic acid substitued triazin phenyl alkyl sulfonyl compound
P-08-0492 | 06/23/08 | 09/20/08 | CBI | (G) for printing ink | (G) Aluminum diazo naphthalene derivative
P-08-0493 | 06/23/08 | 09/20/08 | CBI | (G) for printing ink | (G) Aluminum diazo naphthalene derivative
P-08-0494 | 06/23/08 | 09/20/08 | CBI | (G) Dispersion additive for printing ink | (G) Benzene sulfonic acid alkyl amine
P-08-0495 | 06/23/08 | 09/20/08 | CBI | (G) Dispersion additive for printing ink | (G) Benzene sulfonic acid alkyl amine
P-08-0496 | 06/24/08 | 09/21/08 | CBI | (G) Coatings for various materials | (G) Alkene-carboxylic acid copolymer alkanolamine salt
P-08-0497 | 06/24/08 | 09/21/08 | CBI | (G) Coatings for various materials | (G) Alkene-carboxylic acid copolymer salt
P-08-0498 | 06/25/08 | 09/22/08 | CBI | (G) Enhanced oil recovery applications | (G) Sodium sulfonate surfactant
P-08-0499 | 06/25/08 | 09/22/08 | Genencor, a danisco division | (S) In-situ peroxyacetic acid generation for bleaching textile products | (S) Arylesterase - the CAS Registy number (9032-73-9) was determined by using the enzyme classification number for this enzyme.arylesterase (ec# 3.1.1.2) is referenced in the Brenda Comprehensive Enzyme Information System and in the expasy enzyme database. synonyms are paraoxonase and alpha-esterase. The systematic name is aryl-ester hydrolase. Arylesterases act on many phenolic esters. It is likely that the three forms of human paraoxonase are lactonases rather than aromatic esterases [7,8]. The natural substrates of the paraoxonases are lactones, with ()-5-hydroxy-6E,8Z,11Z,4Z-eicostetraenoic-acid 1,5-lactone being the best substrate.
P-08-0500 | 06/25/08 | 09/22/08 | The Dow Chemical Company | (G) Consumer goods and adhesives | (S) Benzene, ethenyl-, polymer with 1,3-butadiene and 2-methyl-1,3-butadiene
P-08-0501 | 06/27/08 | 09/24/08 | CBI | (G) Contained use in energy production | (G) Polyacrylate salt
P-08-0502 | 06/27/08 | 09/24/08 | CBI | (G) Component of an industrial coating | (G) Cyclic guanidine
P-08-0503 | 06/30/08 | 09/27/08 | CBI | (G) Adhesive component composite resin component | (G) Epoxy resin
P-08-0504 | 06/30/08 | 09/27/08 | CBI | (G) Laminate resin | (G) Formaldehyde, polymer with amine and A phenol
P-08-0505 | 06/30/08 | 09/27/08 | CBI | (G) Oil-field chemical | (G) Copolymer of substituted propanesulfonic acid, maleate of ethylene oxide-propylene oxide
P-08-0506 | 06/30/08 | 09/27/08 | CBI | (G) Intermediate | (G) Maleate of ethylene oxide-propylene oxide copolymer
P-08-0507 | 06/30/08 | 09/27/08 | CBI | (S) Laminating adhesive | (G) Aromatic polyester polyether polyurethane
P-08-0508 | 06/30/08 | 09/27/08 | Dupont Company | (G) Intermediate for polymerization aid | (G) Perfluorinated aliphatic carboxylic acid
P-08-0509 | 06/30/08 | 09/27/08 | Dupont Company | (G) Polymerization aid | (G) Perfluorinated aliphatic carboxylic acid, ammonium salt
P-08-0510 | 07/02/08 | 09/29/08 | CBI | (G) Co-stabilizer for plastics | (G) Organosulfide
P-08-0511 | 07/02/08 | 09/29/08 | Zeon Chemicals L.P. | (S) Automotive seals and gaskets | (G) Modified acrylonitrile, butadiene polymer, hydrogenated
P-08-0512 | 07/02/08 | 09/29/08 | CBI | (G) Chemical intermediate | (G) Alcohol propoxylate
P-08-0513 | 07/02/08 | 09/29/08 | CBI | (G) Enhanced oil recovery applications | (G) Alcohol propoxylate sulfate salt
P-08-0514 | 07/02/08 | 09/29/08 | Cytec Industries Inc. | (G) Sited limited intermediate | (G) Poly(oxyalkylenediyl), maleate half-ester
P-08-0515 | 07/02/08 | 09/29/08 | Cytec Industries Inc. | (G) Sited limited intermediate | (G) Poly(oxyalkylenediyl), maleate half-ester
P-08-0516 | 07/02/08 | 09/29/08 | Cytec Industries Inc. | (G) Sited limited intermediate | (G) Poly(oxyalkylenediyl), maleate half-ester
P-08-0517 | 07/02/08 | 09/29/08 | Cytec Industries Inc. | (G) Emulsifier | (G) Poly(oxyalkylenediyl), substituted maleate half-ester, metal salts
P-08-0518 | 07/02/08 | 09/29/08 | Cytec Industries Inc. | (G) Emulsifier | (G) Poly(oxyalkylenediyl), substituted maleate half-ester, metal salts
P-08-0519 | 07/02/08 | 09/29/08 | Cytec Industries Inc. | (G) Emulsifier | (G) Poly(oxyalkylenediyl), substituted maleate half-ester, metal salts
P-08-0520 | 07/02/08 | 09/29/08 | CBI | (G) Urethane component | (G) Aromatic isocyanate
P-08-0522 | 07/03/08 | 09/30/08 | CBI | (G) Raw material for the manufacturing of realese coatings | (G) 1-propanone, 2-hydroxy-2-methyl-, 1-(4-alkylaryl) derivates
P-08-0523 | 07/07/08 | 10/04/08 | CBI | (G) Mechanical devices | (G) TDI polyester polypropylene ethylene copolymer
P-08-0524 | 07/07/08 | 10/04/08 | CBI | (S) Unsaturated polyester used in ultra violet curable inks and coatings. | (G) Unsaturated polyester
P-08-0525 | 07/08/08 | 10/05/08 | CBI | (G) Asphalt additive production of energy | (G) Fatty acid maleated
P-08-0526 | 07/08/08 | 10/05/08 | CBI | (G) Open non-dispersive (resin) | (G) Aliphatic urethane resin
P-08-0527 | 07/08/08 | 10/05/08 | CBI | (G) Vinyl acrylic pressure sensitive adhesive | (G) Vinyl acetate - acrylic copolymer
P-08-0528 | 07/08/08 | 10/05/08 | CBI | (G) Additive for consumer use products; dispersive use | (S) Butanoic acid, 2-methyl-, 5-hexen-1-yl-ester
P-08-0529 | 07/08/08 | 10/05/08 | Nippon Kayaku America, Inc. | (S) Additives for industrial inkjet printer. | (G) 1,2,3 - propanetriol, homopolymer, ether with aliphatic alcohol
P-08-0530 | 07/09/08 | 10/06/08 | CBI | (G) Fragrance - dispersive use. | (G) Silicic acid ester polymer
P-08-0531 | 07/09/08 | 10/06/08 | CBI | (G) Fragrance - dispersive use. | (G) Silicic acid ester polymer
P-08-0532 | 07/09/08 | 10/06/08 | CBI | (G) Fragrance - dispersive use. | (G) Silicic acid ester polymer
P-08-0533 | 07/09/08 | 10/06/08 | CBI | (G) Fragrance - dispersive use. | (G) Silicic acid ester polymer
P-08-0534 | 07/09/08 | 10/06/08 | CBI | (G) Fragrance - dispersive use. | (G) Silicic acid ester polymer
P-08-0535 | 07/09/08 | 10/06/08 | CBI | (G) Fragrance - dispersive use. | (G) Silicic acid ester polymer
P-08-0536 | 07/08/08 | 10/05/08 | Eastman Chemical Company | (S) Plasticizer | (S) Hexanoic acid, 2-ethyl-, 2,2-dimethyl-1-(1-methylethyl)-1,3-propanediyl ester
P-08-0537 | 07/08/08 | 10/05/08 | CBI | (G) Acid inhibitor | (G) Comple keto-amine
P-08-0538 | 07/11/08 | 10/08/08 | CBI | (G) Pigment dispersant | (G) Polyetheramine derivative
P-08-0539 | 07/09/08 | 10/06/08 | Futurefuel Chemical Company | (S) Biodiesel fuel | (S) Fatty acids, lesquerella, me ethers
P-08-0540 | 07/09/08 | 10/06/08 | Futurefuel Chemical Company | (S) Biodiesel fuel | (S) Fatty acids, camelina, me ethers
P-08-0541 | 07/09/08 | 10/06/08 | Futurefuel Chemical Company | (S) Biodiesel fuel | (S) Fatty acids, peanut-oil, me esters
P-08-0542 | 07/09/08 | 10/06/08 | Futurefuel Chemical Company | (S) Biodiesel fuel | (S) Fatty acids, palm-oil, me esters
P-08-0543 | 07/14/08 | 10/11/08 | CBI | (S) Chemical intermediate | (G) Methyl ester of hydroxy alkyl acid
P-08-0544 | 07/15/08 | 10/12/08 | Strategic Marketing SMF Management Associates | (G) Aromatic additive | (G) Methylpropylpyranol
P-08-0545 | 07/16/08 | 10/13/08 | CBI | (G) Open, non-dispersive use. | (G) Surface-active, blocked isocyanate polymer
P-08-0546 | 07/17/08 | 10/14/08 | Oxea Corporation | (G) Industrial antifreeze; chemical intermediate | (S) 1,3-butanediol, manufacture of, by-products from distributing residues

In Table II of this unit, EPA provides the following information (to the extent that such information is not claimed as CBI) on the TMEs received:

II. 7 Test Marketing Exemption Notices Received From: 06/23/08 to 07/18/08
Case No. | Received Date | Projected Notice End Date | Manufacturer/Importer | Use | Chemical
T-08-0010 | 07/02/08 | 08/15/08 | Cytec Industries Inc. | (G) Sited limited intermediate | (G) Poly(oxyalkylenediyl), maleate half-ester
T-08-0011 | 07/02/08 | 08/15/08 | Cytec Industries Inc. | (G) Sited limited intermediate | (G) Poly(oxyalkylenediyl), maleate half-ester
T-08-0012 | 07/02/08 | 08/15/08 | Cytec Industries Inc. | (G) Sited limited intermediate | (G) Poly(oxyalkylenediyl), maleate half-ester
T-08-0013 | 07/02/08 | 08/15/08 | Cytec Industries Inc. | (G) Emulsifier | (G) Poly(oxyalkylenediyl), substituted maleate half-ester, metal salts
T-08-0014 | 07/02/08 | 08/15/08 | Cytec Industries Inc. | (G) Emulsifier | (G) Poly(oxyalkylenediyl), substituted maleate half-ester, metal salts
T-08-0015 | 07/02/08 | 08/15/08 | Cytec Industries Inc. | (G) Emulsifier | (G) Poly(oxyalkylenediyl), substituted maleate half-ester, metal salts
T-08-0016 | 07/07/08 | 08/20/08 | SC Johnson and Son, Inc. | (G) non-dispersive use | (G) Hydrolyzed cellulosic ether

In Table III of this unit, EPA provides the following information (to the extent that such information is not claimed as CBI) on the Notices of Commencement to manufacture received:

III. 27 Notices of Commencement From: 06/23/08 to 07/18/08
Case No. | Received Date | Commencement Notice End Date | Chemical
P-03-0257 | 07/02/08 | 06/06/03 | (G) Polyester polymer
P-05-0727 | 06/23/08 | 05/30/08 | (S) Carbamic acid, [(dimethoxymethylsilyl)methyl]-, methyl ester
P-06-0645 | 07/14/08 | 07/09/08 | (S) 3-decen-5-one, 4-methyl-, (3e)-
P-06-0755 | 06/23/08 | 06/09/08 | (G) Titanium phosphate, glycolate complex
P-07-0046 | 06/24/08 | 06/12/08 | (S) 4H-indeno[4,5-d]-1,3-dioxole, 3a,5,6,7,8,8b-hexahydro- 2,2,6,6,7,8,8-heptamethyl-
P-07-0064 | 06/23/08 | 06/08/08 | (G) Modified rosin, hydrocarbon resin
P-07-0068 | 07/08/08 | 06/26/08 | (G) Polyester resin
P-07-0079 | 07/09/08 | 06/27/08 | (G) Substituted piperidinol, carbonate
P-07-0333 | 07/11/08 | 07/03/08 | (G) Aromatic isocyanate prepolymer
P-07-0454 | 07/14/08 | 06/26/08 | (G) Alkyl amine
P-07-0455 | 07/14/08 | 06/26/08 | (G) Alkyl amidoamine
P-07-0456 | 07/14/08 | 06/26/08 | (G) Alkylamine
P-07-0707 | 07/07/08 | 06/20/08 | (G) Blocked aromatic polyisocyanate
P-08-0081 | 06/30/08 | 06/18/08 | (S) Soybean oil, maleated, ester with polyethylene glycol mono-C12-16-alkyl ethers
P-08-0157 | 06/23/08 | 06/15/08 | (G) Quaternary ammonium compounds, dialkyl dimethyl, halides, reaction products with silica
P-08-0164 | 06/23/08 | 06/16/08 | (S) 1,2,4,5-benzenetetra carboxylic acid; 1,4-bis(2-((2-methyl-1-oxo-2-propenyl)oxy)ethyl)ester
P-08-0186 | 06/23/08 | 05/28/08 | (S) D-glucopyranose, oligomeric, decyl octyl glycosides, 3-(dodecyldimethylammonio)-2-hydroxypropyl ethers, chlorides
P-08-0205 | 07/14/08 | 06/16/08 | (G) Acrylic acid polymer with alkyl acrylate, alkenyl benzene and acryl amide, ammonium salt
P-08-0208 | 06/20/08 | 06/12/08 | (G) Acrylic styrene polymer
P-08-0218 | 06/26/08 | 06/02/08 | (G) Isocyanate terminated polymer with polyoxyalkylene polyols and isocyanate
P-08-0232 | 07/09/08 | 06/15/08 | (S) 2H-pyran, 5,6-dihydro-4-methyl-2-[(2,2,3-trimethyl-3-cyclopenten-1-yl)methyl]-
P-08-0235 | 07/07/08 | 07/01/08 | (G) Heteropolyclic lactone
P-08-0242 | 07/07/08 | 06/09/08 | (S) 1,2,3,4-butanetetrol meso-erythritol
P-08-0243 | 07/02/08 | 06/12/08 | (G) Organomodified silanic hydrogen fluid
P-08-0244 | 07/02/08 | 06/13/08 | (G) Modified silicone polyether copolymer
P-08-0250 | 07/14/08 | 06/19/08 | (S) Poly(oxy-1,4-butanediyl), .alpha.-hydro-.omega.-hydroxy-, polymer with ammonia
P-08-0267 | 07/10/08 | 06/22/08 | (G) Modified polyolefin, aminoalkanoic acid and polyether copolymer
P-08-0326 | 07/11/08 | 06/26/08 | (G) Isocyanate terminated urethane polymer

List of Subjects

Environmental protection, Chemicals, Premanufacturer notices.

Dated: July 31, 2008.
Chandler Sirmons,
Acting Director, Information Management Division, Office of Pollution Prevention and Toxics.

[FR Doc. E8-18321 Filed 8-7-08; 8:45 am]

BILLING CODE 6560-50-S